DEPARTMENT OF TRANSPORTATION

Federal Transit Administration

Request for Grant Proposals for a Demonstration of a Web-based, Multimodal Trip Planning System

SUMMARY: FTA is issuing a request for grant proposals (RFP) for a demonstration and evaluation of a standards-based, prototype, trip itinerary planning system that is multimodal (transit, driving, parking, etc.). The multimodal trip planner will provide door-to-door instructions over the Internet for a trip along a corridor. It will incorporate accessibility information and features of the transportation network, and accommodate customer preferences and constraints. The prototype system will demonstrate the integration of existing single-mode trip planning systems through the use of draft eXtensible markup language (XML) schemas that are based on Intelligent Transportation Systems (ITS) standards. The goals of the project are to demonstrate the technical and institutional feasibility of a standards-based, integrated, multimodal trip planning system, using XML, and to analyze the feasibility of the multimodal trip planning system vision.

DATES: Request for grant proposals may be viewed at: http://www.fta.dot.gov/legal/federal_register/2004/1260_ENG_HTML.htm. Proposals will be accepted immediately, as of the date of this notice. Proposals are due by 4:15 p.m. e.s.t. on August 30, 2004.

ADDRESSES: Proposals shall be addressed to Mr. Brian P. Cronin, Advanced Public Transportation Systems (APTS) Division, Room 9402, TRI-11, Federal Transit Administration, U.S. Department of Transportation, 400 Seventh Street, SW., Washington, DC 20590 and shall reference “Multimodial Trip Planner Demonstration.”

FOR FURTHER INFORMATION CONTACT: Technical questions or concerns may be directed to Mr. Brian Cronin via phone at 202-366-4995 or via e-mail at mtpd@fta.dot.gov. Legal questions or concerns may be directed to Mr. James LaRusch via phone at 202-366-1936 or via e-mail at James.LaRusch@fta.dot.gov. Office hours are 8:30 a.m. to 5 p.m. e.s.t., Monday through Friday, except Federal holidays.

SUPPLEMENTARY INFORMATION: FTA is seeking proposals from teams of public and private transportation providers that currently have operational trip planning systems (or will have operational systems by the time this grant is awarded). The integrated multimodial trip planner component, to be developed for this demonstration, will:

• Obtain trip parameter information from the traveler via the Internet,

• Process the input data and data provided by the existing trip planning systems,

• Generate comparative origin-to-destination trip planning itineraries, and

• Provide the itineraries to the requester in a comparative format via the Internet.

The conductor of the demonstration will perform a self evaluation and deliver an evaluation report and demonstration final report that shall include, but not be limited to, lessons learned on the application to ITS standards.

Dated: May 19, 2004.
Jennifer L. Dorn,
Administrator.

[FR Doc. 04-11693 Filed 5-21-04; 8:45 am]

BILLING CODE 4910-57-M